DEFENSE NUCLEAR FACILITIES SAFETY BOARD

Extension of Time To Supplement Hearing Record

AGENCY: Defense Nuclear Facilities Safety Board.

ACTION: Extension of time to supplement hearing record.

SUMMARY: The Defense Nuclear Facilities Safety Board (Board) published a document in the Federal Register of July 26, 2010, (75 FR 43495), as amended, (75 FR 56080), concerning notice of a public hearing and meeting on October 7 and 8, 2010, with regard to the safety-related aspects of the design and construction of the Department of Energy's Waste Treatment and Immobilization Plant at the Hanford Site. The Board stated in that notice that the Board would hold the hearing record open until November 7, 2010, for the receipt of additional materials. The Board made the same representation at the conclusion of the hearing on October 8, 2010.

Extension of Time: The Board now extends the period of time for which the hearing record will remain open an additional sixty (60) days until January 6, 2011. The Board has become aware of information which indicates that the public interest will be best served by extending the deadline for submission of materials into the hearing record. The Board will consider any such additional material in the course of evaluating its response to information collected at the hearing.

Contact Person for More Information: Brian Grosner, General Manager, Defense Nuclear Facilities Safety Board, 625 Indiana Avenue, NW., Suite 700, Washington, DC 20004-2901, (800) 788-4016. This is a toll-free number.

Dated: November 1, 2010.
Peter S. Winokur,
Chairman.

[FR Doc. 2010-27900 Filed 11-3-10; 8:45 am]

BILLING CODE 3670-01-P